DEPARTMENT OF THE INTERIOR

National Park Service, Interior

Notice of Intent to Repatriate Cultural Items in the Possession of the Illinois State Museum, Springfield, IL

AGENCY: National Park Service, Interior.

ACTION: Notice.

Notice is hereby given under the Native American Graves Protection and Repatriation Act, 43 CFR 10.10 (a)(3), of the intent to repatriate cultural items in the possession of the Illinois State Museum, Springfield, IL, that meet the definition of “sacred object” or “object of cultural patrimony” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The two cultural items are a painted wood altar piece and a large cooking pot.

During the 1930's, these cultural items were purchased in the Hopi area of northern Arizona by Edith DeGroat and donated or loaned temporarily to the Huntington Beach Museum, Huntington, CA. In 1966, these cultural items were transferred by the Huntington Beach Museum, at the request of Miss DeGroat, to the Macon County Museum, Decatur, IL. In 2000, the Macon County Museum placed these cultural items in the possession and control of the Illinois State Museum for NAGPRA repatriation.

Based on examination of the altar piece, documentary evidence from the Macon County Museum, and consultation evidence presented by the representatives of the Hopi Tribe of Arizona and the Katsinmomngwit (Katsina Chiefs), this altar piece is a specific ceremonial object needed by traditional Native American religious leaders for the practice of traditional Native American religions by their present-day adherents.

Based on examination of the cooking pot, documentary evidence from the Macon County Museum, and consultation evidence presented by the representatives of the Hopi Tribe of Arizona and the Katsinmomngwit (Katsina Chiefs), this cooking pot has been identified as having ongoing historical, traditional, and cultural importance central to the tribe itself, and could not have been alienated, appropriated, or conveyed by any individual. It is estimated to be between 150 and 300 years old. It is blackened from use and has several cracks.

Based on the above-mentioned information, officials of the Illinois State Museum have determined that, pursuant to 43 CFR 10.2 (d)(3), this altar piece is a specific ceremonial object needed by traditional Native American religious leaders for the practice of traditional Native American religions by their present-day adherents. Officials of the Illinois State Museum also have determined that, pursuant to 43 CFR 10.2 (d)(4), this cooking pot has ongoing historical, traditional, and cultural importance central to the tribe itself, and could not have been alienated, appropriated, or conveyed by any individual. Finally, officials of the Illinois State Museum have determined that, pursuant to 43 CFR 10.2 (e), there is a relationship of shared group identity that can be reasonably traced between these items and the Hopi Tribe of Arizona.

This notice has been sent to officials of the Hopi Tribe of Arizona. Representatives of any other Indian tribe that believes itself to be culturally affiliated with these objects should contact Dr. Jonathan E. Reyman, Research Associate-Anthropology, Illinois State Museum, Research and Collections Center, 1011 East Ash Street, Springfield, IL 62703-3535, telephone (217) 785-0069, before March 23, 2001. Repatriation of these objects to the Hopi Tribe of Arizona may begin after that date if no additional claimants come forward.

Dated: February 2, 2001.
John Robbins,
Assistant Director, Cultural Resources Stewardship and Partnerships.

[FR Doc. 01-4306 Filed 2-20-01; 8:45 am]

BILLING CODE 4310-70-F